DEPARTMENT OF LABOR

Employment and Training Administration

[TA-W-50,239]

Nestle Purina Petcare, St. Joseph, Missouri; Notice of Negative Determination Regarding Application for Reconsideration

By application February 19, 2003 the Retail, Wholesale and Department Store Union (RWDSU), Local 125 requested administrative reconsideration of the Department's negative determination regarding eligibility to apply for Trade Adjustment Assistance (TAA), applicable to workers and former workers of the subject firm. The denial notice was signed on January 21, 2003, and published in the Federal Register on February 24, 2003 (68 FR 8622).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Nestle Purina Petcare, St. Joseph, Missouri, was denied because the “contributed importantly” group eligibility requirement of Section 222(3) of the Trade Act of 1974, as amended, was not met. The investigation revealed that the declines in employment are related to a merger of Nestle and Purina companies. Sales at the subject firm increased in 2001 compared with 2000, and also increased during January through December 2002 compared to 2001. The investigation revealed that company did not import cat or dog food in the relevant period, nor did it shift production to a foreign facility.

The union alleges that the subject firm shifted production from the subject facility to two foreign facilities for the purpose of producing like or directly competitive products. The union further alleged that the subject firm trained employees from a foreign facility at the subject firm for the purpose of producing like or directly competitive products.

A company official was contacted in regard to these allegations. The official stated that no production equipment had been shipped from the subject facility to the foreign facilities, and that, although foreign workers had been trained at the subject facility, none of their foreign facilities produced like or directly competitive products. The official further clarified that the company had experienced no declines in sales and production, but had transferred all production to U.S. facilities.

Conclusion

After review of the application and investigative findings, I conclude that there has been no error or misinterpretation of the law or of the facts which would justify reconsideration of the Department of Labor's prior decision. Accordingly, the application is denied.

Signed at Washington, DC this 15th day of April, 2003.
Edward A. Tomchick,
Director, Division of Trade Adjustment Assistance.

[FR Doc. 03-10135 Filed 4-23-03; 8:45 am]

BILLING CODE 4510-30-P